DEPARTMENT OF LABOR

Mine Safety and Health Administration

RIN 1219-AB71

Safety and Health Management Programs for Mines

AGENCY: Mine Safety and Health Administration, Labor.

ACTION: Notice of public meetings.

SUMMARY: The Mine Safety and Health Administration (MSHA) is holding a public meeting, and plans to hold additional public meetings, to gather more information on effective safety and health management programs to eliminate hazards and prevent injuries and illnesses at mines. Safety and health management programs are an important component of helping mine operators assure the safety and health of miners at their mines. MSHA encourages representatives from academia, safety and health professionals, industry organizations, worker organizations, government agencies, industries other than mining, and international organizations to present information on their model programs. MSHA believes that effective safety and health management programs in mining will create a sustained industry-wide effort to eliminate hazards and will result in the prevention of injuries and illnesses.

DATES: Public Meeting Date: The public meeting will be held on November 10, 2011, at the location listed in the SUPPLEMENTARY INFORMATION section of this notice.

Comment Dates: MSHA will hold the date for comments open until all meetings are held, at which point MSHA will notify the public of the date the comment period will close.

ADDRESSES: Comments must be identified with “RIN 1219-AB71” and may be sent to MSHA by any of the following methods:

(1) Federal E-Rulemaking Portal: http://www.regulations.gov. Follow the on-line instructions for submitting comments.

(2) Facsimile: 202-693-9441.

(3) Mail or Hand Delivery: MSHA, Office of Standards, Regulations, and Variances, 1100 Wilson Boulevard, Room 2350, Arlington, Virginia 22209-3939. For hand delivery, sign in at the receptionist's desk on the 21st floor.

FOR FURTHER INFORMATION CONTACT: Roslyn B. Fontaine, Acting Director, Office of Standards, Regulations, and Variances, MSHA, at fontaine.roslyn@dol.gov (e-mail); 202-693-9440 (voice); or 202-693-9441 (facsimile).

SUPPLEMENTARY INFORMATION:

I. Availability of Information

Public Comments

MSHA posts all comments without change, including any personal information provided. Access comments electronically at http://www.regulations.gov and on http://www.msha.gov/currentcomments.asp. Review comments in person at the Office of Standards, Regulations, and Variances, 1100 Wilson Boulevard, Room 2350, Arlington, Virginia. Sign in at the receptionist's desk on the 21st floor.

E-mail notification

MSHA maintains a list that enables subscribers to receive e-mail notification when the Agency publishes rulemaking documents in the Federal Register. To subscribe, go to http://www.msha.gov/subscriptions/subscribe.aspx.

II. Public Meeting

The public meeting will begin at 1 p.m. and conclude at 5 p.m., or until the last speaker speaks. The agenda for the meeting will include:

• Registration,

• Opening Statement,

• Presentations,

• Comments from the Public, and

• Closing Statement.

MSHA invites academia, safety and health professionals, industry organizations, worker organizations, government agencies, and industries outside of mining, as well as international organizations to participate by making a presentation or by providing information on their model programs for best practices for safety and health management programs. Requests to present at the meeting may be made by telephone (202-693-9440), facsimile (202-693-9441), or mail (MSHA, Office of Standards, Regulations and Variances, 1100 Wilson Boulevard, Room 2350, Arlington, Virginia 22209-3939).

The meeting will be conducted in an informal manner. Presenters and attendees may provide written information to the court reporter for inclusion in the rulemaking record. MSHA will make transcripts of the meetings available on MSHA's Web site at: http://www.msha.gov/tscripts.htm, and include them in the rulemaking record.

The meeting will be held in conjunction with the 6th Annual Southeastern Mining Safety and Health Conference on November 10, 2011, in Birmingham, Alabama. The meeting will be held at the Renaissance Birmingham Ross Bridge Golf Resort and Spa, in the Conference Center Ballroom, 4000 Grand Ave., Hoover, Alabama 35226, phone 1-800-949-4444.

Additional public meetings will be held, to the extent possible, in conjunction with other safety and health events. MSHA will announce these meetings in the Federal Register and post them on the Agency's Web site.

III. MSHA and OSHA Regulatory Initiatives

A. MSHA Rulemakings

MSHA believes that operators with effective safety and health management programs would identify and correct hazards more quickly, resulting in fewer accidents, injuries, and illnesses. In the past year, MSHA published two proposed rules that are complementary to the Agency's initiative to develop safety and health management programs for mines. In December 2010, MSHA published a proposed rule addressing Examinations of Work Areas in Underground Coal Mines (75 FR 81165). This proposed rule is a critical element in the Secretary of Labor's “Plan, Prevent, and Protect” strategy and an important part of an effective safety and health management program for underground coal mines.

In February 2011, MSHA published a proposed rule addressing Pattern of Violations (76 FR 5719). The proposed rule would revise the Agency's existing regulation for pattern of violations (POV). Congress included the POV provision in the Mine Act so that operators would manage safety and health conditions at mines and find and fix the root causes of significant and substantial violations to protect the safety and health of miners.

B. OSHA's Injury and Illness Prevention Programs

The Occupational Safety and Health Administration (OSHA) has announced rulemaking on Injury and Illness Prevention Programs (I2P2) which is similar to this regulatory initiative. In 2010, the OSHA held five stakeholder meetings on I2P2 soliciting information about safety and health management programs for the general industry.

IV. Background and Request for Comments

MSHA has reviewed a number of guidelines for safety and health management programs and noted that the components of effective safety and health management programs generally include:

• Management Commitment.

• Worker Involvement.

• Hazard Identification, including workplace inspections for violations of mandatory health and safety standards.

• Hazard Prevention and Control.

• Safety and Health Training.

• Program Evaluation.

MSHA held three public meetings in October 2010, gathering information and comments from the safety and health community about effective, comprehensive safety and health management programs (75 FR 54804). Presenters included representatives from academia, safety and health professionals, industry and worker organizations (including mining), and government agencies that provided information on best practices for safety and health programs.

MSHA is now interested in receiving information about safety and health management programs developed and implemented during the past five years, particularly those implemented in the last year.

MSHA is interested in statistical results, lessons learned, and new and innovative approaches from different sectors of the mining industry and from small mines.

To supplement the information the Agency has already received, MSHA will hold additional meetings. MSHA is interested in safety and health management programs that have shown results in:

• Reduced injury and illnesses.

• Increased safety and health results.

• Improved conditions in certain areas, (e.g. haulage, roof and rib, combustible materials, health hazards).

• Improved compliance.

• Improved communication.

• Increased productivity.

• Increased and improved worker and management involvement in the development of safety and health programs including training; and

• Increased morale.

The Agency is interested in statistical results from companies and organizations that have programs that are effective and measurable. MSHA is also interested in safety and health management programs from industries other than mining, and safety and health management programs in other countries.

The Agency is interested in receiving comments on all aspects of safety and health management programs. The meetings will provide MSHA with current information and views from a wide range of interests.

Dated: October 7, 2011.
Joseph A. Main,
Assistant Secretary of Labor for Mine Safety and Health.

[FR Doc. 2011-26474 Filed 10-13-11; 11:15 am]

BILLING CODE 4510-43-P